DEPARTMENT OF COMMERCE

National Oceanic and Atmospheric Administration

[I.D. 102102D ]

Endangered and Threatened Species; Issuance of Permit 1094

AGENCY: National Marine Fisheries Service (NOAA Fisheries), National Oceanic and Atmospheric Administration, Commerce.

ACTION: Issuance of amendment to enhancement permit 1094.

SUMMARY: NMFS has amended research and enhancement permit 1094 held by the State of Washington Department of Fish and Wildlife (WDFW), pursuant to the Endangered Species Act of 1973 (ESA).

ADDRESSES: Requests for copies of the decision documents or any of the other associated documents should be directed to the Hatcheries and Inland Fisheries Branch, Sustainable Fisheries Division, NOAA Fisheries, 525 NE Oregon Street, Suite 510, Portland, OR, 97232.

FOR FURTHER INFORMATION CONTACT: Kristine Petersen, Portland, OR at phone number: (503) 230-5409, e-mail: Kristine.Petersen@noaa.gov

SUPPLEMENTARY INFORMATION: The following species and evolutionarily significant units (ESUs) are covered in the permit:

Steelhead (Oncorhynchus mykiss): endangered Upper Columbia River.

Chinook salmon (O. tshawytscha): endangered Upper Columbia River spring run.

Decision

Notice of proposed actions similar in scope to the proposed amendment actions was published on August 1, 2002 (67 FR 49906). A public meeting was held in Wenatchee, WA on August 27, 2002. The amended permit authorizes WDFW to manage adult hatchery steelhead returns that are surplus to recovery and broodstock needs. Permit 1094 authorizes WDFW's activities related to carrying out the steelhead artificial propagation enhancement program in the Upper Columbia River. After evaluating the potential effects of this amendment on listed salmon and steelhead in the Upper Columbia River ESUs and the environmental consequences, NOAA Fisheries issued an amended permit with conditions authorizing takes of the ESA-listed anadromous fish species. NOAA Fisheries' conditions will ensure that the takes of ESA-listed anadromous fish will not appreciably reduce the likelihood of the survival and recovery of the species in the wild. The permit expires May 31, 2003.

Rationale for Decision

Favorable environmental conditions leading to a return of hatchery steelhead surplus to the number needed on spawning grounds precipitate the need to provide additional scope to available techniques for managing these experimental enhancement program fish, responsive to conservation needs of natural spawning populations in the Upper Columbia River basin. This amendment provides additional mitigation measures to avoid, minimize, and/or compensate for the anticipated takes of ESA-listed anadromous fish.

The amended permit was granted only after NOAA Fisheries determined that all permit issuance criteria were met, including the requirement that granting the permit would not jeopardize the continued existence of the species, and that the permit is consistent with the purposes and policies set forth in the Endangered Species Act of 1973, as amended.

Dated: October 24, 2002.
Margaret Lorenz,
Acting Chief, Endangered Species Division, Office of Protected Resources, National Marine Fisheries Service.

[FR Doc. 02-27564 Filed 10-29-02; 8:45 am]

BILLING CODE 3510-22-S